DEPARTMENT OF THE INTERIOR

Bureau of Land Management

[ID-210-1220-MA]

Notice of Emergency Temporary Closure of Certain Public Lands, to Motorized Vehicles, in Owyhee County ID, Under Sailor Cap Emergency and Rehabilitation Plan

AGENCY: Bureau of Land Management, Interior.

SUMMARY: The Bureau of Land Management (BLM) Jarbidge Field Office, in order to protect natural resources and stabilization treatments conducted following the 2006 Sailor Cap Fire, is implementing an emergency temporary closure to all motorized vehicle traffic off established roads which are capable of being traveled by full size vehicles (e.g. all-terrain vehicles, pickups, motorcycles, sport utility vehicles, snowmobiles, etc.) within the fire perimeter and along fenced livestock allotments. The closure area follows the most logical boundaries according to transportation routes (please refer to supplementary information for description of closure area). The purpose of the closure is to restrict off-road vehicle use while providing continued public access to and through the area. Vehicles traveling cross-country in a burned area may damage reemerging plants, increase erosion and spread noxious weeds. Motorized vehicles may continue to use established roads capable of being traveled by full size vehicles.

DATES: This closure is in effect for two years, and may be lifted sooner if the BLM determines that revegetation and stabilization efforts have reduced resource concerns.

FOR FURTHER INFORMATION CONTACT: Max Yingst, Outdoor Recreation Planner, Jarbidge Field Office, Bureau of Land Management, 2536 Kimberly Road, Twin Falls, ID 83301-7975, or call (208) 736-2362.

Closure Order: This closure order applies to approximately 64,708 acres of BLM lands and is considered an emergency situation to enhance protection of the resources involved. The Jarbidge Field Office will analyze the effects of the closure in the fall of 2007 and extend, modify, or rescind the order at that time.

This order affects public lands in Owyhee County, Idaho, thus described:

T. 08S., R09 E, 24, 25, 33, 34, and 35, B.M.

T. 09S., R09 E, all sections of BLM lands except 16 and 36, B.M.

T. 09S., R10 E, sections 18, 19, 20, and sections 28 to 34 inclusive, B.M.

T. 10S., R09 E, sections 1, 2, 11, 12, and 13, B.M.

T. 10S., R10 E, sections 2 to15, inclusive, sections 17 to 28, inclusive and sections 34 and 35, B.M.

T. 10S., R11 E, sections 7, 18, 19, 20, and sections 28 to 33, inclusive B.M.

T. 11S., R10 E, sections 1, 2, 3, 11, 12, 13, 24, and 25 B.M.

T. 11S., R11 E, sections 5 to 8, inclusive, sections 17 to 20, inclusive, and sections 28, 29, and 30 B.M.

A total of approximately 64,708 acres.

The closure does not apply to authorized vehicles, rescue vehicles, BLM operation and maintenance vehicles, resource management activities or use by fire and law enforcement vehicles. In addition, access to private property by property owners may be authorized by the BLM Field Manager. Nothing in this closure is intended to affect legal hunting as consistent with Idaho Department of Fish and Game regulations.

Under section 303(a) of the Federal Land Policy and Management Act of 1976 (43 U.S.C. 1733(a) and 43 CFR 8360-7), if you violate this closure on public land within the boundaries established, you may be tried before a United States Magistrate and fined no more than $1,000 or imprisoned for no more than 12 months, or both. Such violations may also be subject to the enhanced fines provided by Title 18 U.S.C. 3571.

Conditions for Ending Closure: Soil stabilization and revegetation treatments will be considered successful if and when the following occur:

1. Slopes and soils show signs of stabilization and have not experienced slope failure through at least one winter season.

2. Re-growth of vegetation has sufficiently obscured cultural sites exposed by the fire.

3. Seeding treatments on burned areas have successfully established.

ADDRESSES: A map of the closed area, along with more detailed information, may be obtained from the Jarbidge Field Office at 2536 Kimberly Road, Twin Falls, ID, 83301. This emergency closure notice is issued under the authority of 43 CFR 8364.1.

Richard Vander Voet,
Jarbidge Field Office Manager, Bureau of Land Management.

[FR Doc. E7-8118 Filed 4-26-07; 8:45 am]

BILLING CODE 4310-GG-P